DEPARTMENT OF AGRICULTURE

Food and Nutrition Service

Agency Information Collection Activities: Proposed Collection; Comment Request—Form FNS-143, Claim for Reimbursement (Summer Food Service Program)

AGENCY: Food and Nutrition Service, USDA.

ACTION: Notice.

SUMMARY: In accordance with the Paperwork Reduction Act of 1995, this notice invites the general public and other public agencies to comment on a proposed information collection. The proposed collection is an extension of a currently approved collection for the FNS-143, Claim for Reimbursement (Summer Food Service Program), which is used to collect data on the number of meals served and cost data from sponsoring organizations participating in the Program.

DATES: Written comments must be submitted by October 6, 2009.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to: Mrs. Lynn Rodgers-Kuperman, Chief, Program Analysis and Monitoring Branch, Child Nutrition Division, Food and Nutrition Service, U.S. Department of Agriculture, 3101 Park Center Drive, Room 638, Alexandria, Virginia 22302. Comments will also be accepted through the Federal eRulemaking Portal. Go to http://www.regulations.gov, and follow the online instructions for submitting comments electronically.

All written comment(s) will be open for public inspection at the office of the Food and Nutrition Service during regular business hours (8:30 a.m. to 5 p.m., Monday through Friday) at 3101 Park Center Drive, Room 640, Alexandria, Virginia 22302.

All responses to this notice will be summarized and included in the request for OMB approval, and will become a matter of public record.

FOR FURTHER INFORMATION CONTACT: Request for additional information should be directed to: Mrs. Lynn Rodgers-Kuperman at (703) 305-2590.

SUPPLEMENTARY INFORMATION:

Title: FNS-143, Claim for Reimbursement (Summer Food Service Program).

OMB Number: 0584-0041.

Expiration Date: August 31, 2009.

Type of Request: Revision of a currently approved collection.

Abstract: The Summer Food Service Program Claim for Reimbursement, Form FNS-143, is used to collect data on the number of meals served and cost data from sponsoring organizations whose participation in this program is administered directly by the Food and Nutrition Service (FNS) Regional Office, commonly known as Regional Office Administered Program (ROAP). The FNS Regional Office directly administers participation of the Summer Food Service Program (SFSP) for sponsoring organizations in Virginia. In order to determine the amount of reimbursement sponsoring organizations are entitled to receive for meals served, they must complete the form. The completed forms are either sent to the Child Nutrition Payments Center at the FNS Mid-Atlantic Regional Office where they are entered into an electronic payment system or sponsoring organizations may submit forms electronically via the Internet directly into the Child Nutrition Payments Center. The payment system computes earned reimbursement. Earned reimbursement in the SFSP is based on performance and is determined by comparing an assigned rate for operations and for administration per meal served to actual operational and administrative costs. To fulfill the earned reimbursement requirements set forth in SFSP regulations issued by the Secretary of Agriculture at 7 CFR 225.9, the meal and cost data must be collected on the FNS-143.

The form is an intrinsic part of the accounting system currently being used by the subject program to ensure proper reimbursement as well as to facilitate adequate recordkeeping.

Respondents: The respondents are sponsoring organizations participating in the SFSP under the auspices of the FNS ROAP.

Estimated Number of Respondents: 121.

Estimated Number of Responses per Respondent:: 3.

Estimated Hours per Response: .5.

Estimated Annual Burden Hours: 181.5.

Estimated Total Annual Burden on Respondents: 181.5 hours.

Dated: August 3, 2009.
Julia Paradis,
Administrator, Food and Nutrition Service.

[FR Doc. E9-18950 Filed 8-6-09; 8:45 am]

BILLING CODE 3410-30-P